INTERNATIONAL TRADE COMMISSION

[Investigation No. 337-TA-1400]

Certain Cameras, Camera Systems, and Accessories Used Therewith; Notice of the Commission's Final Determination Finding a Violation of Section 337; Issuance of Remedial Orders; Termination of the Investigation

AGENCY: U.S. International Trade Commission.

ACTION: Notice.

SUMMARY: Notice is hereby given that the U.S. International Trade Commission has determined to find a violation of section 337 of the Tariff Act of 1930, as amended, with respect to U.S. Design Patent No. D789,435 (“the D'435 patent”) in the above-captioned investigation, and to find no violation of section 337 for U.S. Patent Nos. 10,958,840 (“the '840 patent”) and 10,529,052 (“the '052 patent”). The Commission has determined that the appropriate remedy is the issuance of a limited exclusion order (“LEO”) and a cease and desist order (“CDO”). The investigation is hereby terminated.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the above-captioned investigation on May 6, 2024, based on a complaint filed by GoPro, Inc. of San Mateo, California (“GoPro”). 89 FR 37242-43 (May 6, 2024). The complaint alleged a violation of section 337 based upon the importation into the United States, the sale for importation, and the sale within the United States after importation of certain cameras, camera systems, and accessories used therewith by reason of the infringement of claims 1-12 of U.S. Patent No. 10,015,413 (“the '413 patent”); claims 1-10 of the '052 patent; claims 1-20 of U.S. Patent No. 10,574,894 (“the '894 patent”); claims 1-21 of the '840 patent; claims 1-10 of U.S. Patent No. 11,336,832 (“the '832 patent”); and the claim of the D'435 patent. Id. at 37243. The complaint further alleged that an industry in the United States exists. Id. The notice of investigation named as respondents Arashi Vision Inc. d/b/a Insta360 of Shenzhen, China, and Arashi Vision (U.S.) LLC d/b/a Insta360 of Irvine, California (collectively, “Insta360”). Id. The Office of Unfair Import Investigations is not a party to the investigation. Id.

The Commission partially terminated the investigation based on partial withdrawals of the complaint with respect to claims 2-12 of the '413 patent; claims 3, 4, and 7-10 of the '052 patent; claims 2-4 and 6-20 of the '894 patent; claims 1-12 and 15-21 of the '840 patent; and claims 1-3, 5-7, 9, and 10 of the '832 patent. Order No. 9 (Sept. 30, 2024), unreviewed by Comm'n Notice (Oct. 25, 2024); Order No. 24 (Jan. 13, 2025), unreviewed by Comm'n Notice (Jan. 31, 2025). Accordingly, at the time of the Final Initial Determination (“Final ID”) on July 11, 2025, GoPro asserted infringement of the following claims: claim 1 of the '413 patent; claims 1, 2, 5, and 6 of the '052 patent; claims 1 and 5 of the '894 patent; claims 13 and 14 of the '840 patent; claims 4 and 8 of the '832 patent; and the single claim of the D'435 patent.

On December 13, 2024, the parties stipulated that the importation requirement was satisfied for all accused products. Importation Stipulation Between Complainant and Respondents (Dec. 13, 2024).

On January 21, 2025, the Commission found that GoPro satisfied the economic prong of the domestic industry requirement for all six asserted patents. Order No. 18 (Dec. 19, 2024), unreviewed by Comm'n Notice (Jan. 21, 2025). The ALJ held an evidentiary hearing from January 13 to 17, 2025.

On July 11, 2025, the ALJ issued the Final ID finding a violation of section 337 by Insta360 with respect to D'435 and no violation with respect to the five utility patents. Final ID at 274-75. Specifically, the Final ID found: (1) claims 1 and 5 of the '894 patent were not infringed, were not invalid, and were satisfied for the technical prong of the domestic industry requirement; (2) claims 13 and 14 of the '840 patent were not infringed, claim 13 was not invalid but claim 14 was invalid, and claims 13 and 14 were satisfied for the technical prong; (3) claims 4 and 8 of the '832 patent were infringed, were invalid, and were satisfied for the technical prong; (4) claims 1, 2, 5, and 6 of the '052 patent were infringed (for the wide-angle lens products only), were invalid, and were satisfied for the technical prong; (5) claim 1 of the '413 patent was not infringed, was invalid, and was satisfied for the technical prong; and (6) the claim of the D'435 patent was infringed, was not invalid, and was satisfied for the technical prong. Id.

The ALJ also issued a recommended determination (“RD”) on remedy and bond. If the Commission were to find a violation, the ALJ recommended that the Commission issue a LEO against covered articles imported by or on behalf of Insta360 and a CDO against the domestic respondent—Arashi Vision (U.S.) LLC d/b/a Insta360—based on an undisputed commercially significant inventory of accused products. RD at 275-77. The ALJ also recommended setting the bond at zero percent (0%) of the entered value of the covered articles because the price differential analysis shows that the domestic industry GoPro products cost less than the accused Insta360 products. Id. at 277-82.

On July 25, 2025, GoPro filed a petition for review of the Final ID's findings of no violation for all five utility patents, and a contingent petition for review on certain issues regarding the design patent. Also on July 25, 2025, Insta360 filed a petition for review of the Final ID's finding of violation of the design patent, and a contingent petition for review on certain issues regarding four of the utility patents. On August 4, 2025, GoPro and Insta360 opposed each other's petitions.

On July 15, 2025, the Commission requested comments from the public and interested government agencies regarding any public interest issues raised by the ALJ's RD. See 90 FR 31679 (Jul. 15, 2025). The Commission received comments from U.S. Representatives Kevin Mullin, John Moolenaar, and Raja Krishnamoorthi. The Commission also received comments from GoPro and Insta360 pursuant to Commission Rule 210.50(a)(4). 19 CFR 210.50(a)(4).

On September 11, 2025, the Commission determined to review the following issues: (1) the Final ID's findings relating to the limitation “determine a smoothed trajectory of the housing based on a look-ahead of the trajectory and one or more of a weight-balance parameter, a low-light high-pass parameter, and/or a stickiness parameter” (element 1[g(i)]) of claim 1 and the additional limitations of claim 14 for the '840 patent; (2) the Final ID's findings relating to the limitation “wherein the output images include the sub-frames remapped from the input lens distortion centered in the fields of view of the input images to the desired lens distortion centered in the reduced fields of view to transform the different lens distortion effects present in the sub-frames to the desired lens distortion such that portions of the scene depicted in the sub-frames appear to have been captured using the reduced fields of view” (element 1[g]) of the '052 patent; (3) the Final ID's findings regarding invalidity of the asserted claims of the '052 patent in view of Okubo U.S. Patent App. Pub. No. 2006/0017817; and (4) the Final ID's infringement findings for the D'435 patent. Comm'n Notice (Sept. 11, 2025); 90 FR 44710-12 (Sept. 16, 2025). The Commission also noted “that it will reconsider the domestic industry findings discussed in Order No. 18 (Dec. 19, 2024), unreviewed by Comm'n Notice (Jan. 21, 2025).” Id. By declining to review the Final ID's findings of no violation for '894, '832, and '413 patents, the Commission made a final determination of no violation with respect to '894, '832, and '413 patents on September 11, 2025.

The Commission also sought briefing from the parties on certain issues and from the parties, interested government agencies, and other interested parties on the issues of remedy, the public interest, and bonding. Id. The Commission received initial submissions and reply submissions from GoPro and Insta360. The Commission also received submissions from U.S. Senators Rick Scott and Mark Warner.

Having examined the record of this investigation, including the Final ID, the petitions, responses, and other submissions from the parties, the Commission has determined to find a violation of section 337 with respect to the D'435 patent and to find no violation of section 337 with respect to the '840 and '052 patents. Specifically, the Commission has determined to: (1) reverse the Final ID's finding that the accused cameras satisfy the “low-light high-pass parameter” and the additional limitations of claim 14 of the '840 patent; (2) reverse the Final ID's finding that the accused wide-angle lens products infringe 1, 2, 5, and 6 of the '052 patent because those products do not satisfy the limitation “the output images include the sub-frames remapped from the input lens distortion” of element 1[g]; (3) affirm the Final ID's finding that claims 1, 2, 5, and 6 of the '052 patent are invalid as obvious under modified reasoning; and (4) affirm the Final ID's finding that Insta360 infringes the D'435 patent and thus violates section 337 with respect to that patent. As a result, the Commission finds (1) no violation for '840 patent because claim 13 is not infringed and claim 14 is not infringed and is invalid as anticipated; (2) no violation for the '052 patent because claims 1, 2, 5, and 6 are not infringed and are invalid as obvious; and (3) a violation for the D'435 patent. The Commission has also determined to reconsider the economic prong findings discussed in Order No. 18 (Dec. 19, 2024), unreviewed by Comm'n Notice (Jan. 21, 2025), and upon reconsideration, has determined to affirm the finding that the economic prong of the domestic industry requirement is satisfied with respect to the D'435 patent, which is the only remaining patent found in violation.

The Commission has determined that the appropriate remedy in this investigation is an LEO prohibiting the unlicensed importation by Insta360 of certain cameras and camera systems that infringe the D'435 patent, and a CDO against Arashi Vision (U.S.) LLC d/b/a Insta360 regarding the D'435 patent. The Commission has further determined that the public interest factors enumerated in sections 337(d) and (f) (19 U.S.C. 1337(d) and (f)) do not preclude issuance of the LEO and CDO. Finally, the Commission has determined to impose a bond in the amount of zero percent (0%) (i.e., no bond) of the entered value of the infringing articles that are imported during the period of Presidential review (19 U.S.C. 1337(j)). A Commission opinion issued concurrently with this notice. The investigation is hereby terminated in its entirety.

The Commission vote for this determination took place on February 26, 2026.

The authority for the Commission's determination is contained in section 337 of the Tariff Act of 1930, as amended (19 U.S.C. 1337), and in part 210 of the Commission's Rules of Practice and Procedure (19 CFR part 210).

By order of the Commission.
Issued: February 26, 2026.
Lisa Barton,
Secretary to the Commission.

[FR Doc. 2026-04156 Filed 3-2-26; 8:45 am]

BILLING CODE 7020-02-P